NATIONAL ARCHIVES AND RECORDS ADMINISTRATION

[NARA-2024-042]

Office of Government Information Services Annual Meeting

AGENCY: Office of Government Information Services (OGIS), National Archives and Records Administration (NARA).

ACTION: Notice of annual open meeting.

SUMMARY: We are announcing OGIS's annual meeting, open to the public in accordance with the Freedom of Information Act (FOIA). The purpose of the meeting is to discuss OGIS's reviews and reports, and allow interested people to appear and present oral or written statements.

DATES: The meeting will be on July 24, 2024, from 10:00 a.m. to 11:30 a.m. EDT. You must register by 11:59 p.m. EDT July 22, 2024, to attend the meeting.

ADDRESSES: This meeting will be a virtual meeting. We will send instructions on how to access it to those who register according to the instructions below.

FOR FURTHER INFORMATION CONTACT: Martha Murphy by email at ogisopenmeeting@nara.gov or by telephone at 202.741.5770.

SUPPLEMENTARY INFORMATION: This meeting is open to the public in accordance with FOIA provisions at 5 U.S.C. 552(h)(6). OGIS's 2024 Report for Fiscal Year 2023, posted at https://www.archives.gov/ogis/about-ogis/annual-reports/ogis-2024-annual-report-for-fy-2023, summarizes OGIS's work in accordance with FOIA provisions at 5 U.S.C. 552(h)(4)(A). You may submit written statements by using OGIS's Public Comments Form, available at https://www.archives.gov/ogis/public-comments. If you are interested in presenting oral statements at the meeting you must register in advance via the Eventbrite link below. Each individual will be limited to three minutes each. We will not address individual OGIS cases or specific FOIA requests.

Procedures: This virtual meeting is open to the public. You must register in advance beginning at 10 a.m. EDT Monday, June 24, 2024, through Eventbrite at: https://www.eventbrite.com/e/2024-annual-open-meeting-of-the-federal-foia-ombudsman-tickets-921832815767 if you wish to attend, and you must include an email address so that we can send you access information. To request accommodations (e.g., a transcript), email ogis@nara.gov or call 202.741.5770. Members of the media who wish to register, those who are unable to register online, and those who require special accommodations, should contact Martha Murphy (contact information listed above).

Alina M. Semo,
Office of Government Information Services Director.

[FR Doc. 2024-13854 Filed 6-24-24; 8:45 am]

BILLING CODE 7515-01-P